INTERNATIONAL TRADE COMMISSION

[Investigation No. 337-TA-1186]

Certain Balanced Armature Devices, Products Containing Same, and Components Thereof; Institution of Investigation

AGENCY: U.S. International Trade Commission.

ACTION: Notice.

SUMMARY: Notice is hereby given that a complaint was filed with the U.S. International Trade Commission on August 29, 2019, under section 337 of the Tariff Act of 1930, as amended, on behalf of Knowles Corporation of Itasca, Illinois; Knowles Electronics, LLC of Itasca, Illinois; and Knowles Electronics (Suzhou) Co., Ltd. of China. Supplements to the complaint were filed on September 18 and November 5, 2019. The complaint alleges violations of section 337 based upon the importation into the United States, and in the sale of certain balanced armature devices, products containing same, and components thereof by reason of misappropriation of trade secrets, the threat or effect of which is to destroy or substantially injure a domestic industry. The complainants request that the Commission institute an investigation and, after the investigation, issue a general exclusion order or, in the alternative, limited exclusion orders, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on November 22, 2019, ordered that—

(1) Pursuant to subsection (b) of section 337 of the Tariff Act of 1930, as amended, an investigation be instituted to determine whether there is a violation of subsection (a)(1)(A) of section 337 in the importation into the United States, or in the sale of certain products identified in paragraph (2) by reason of misappropriation of trade secrets, the threat or effect of which is to destroy or substantially injure an industry in the United States;

(2) Pursuant to section 210.10(b)(1) of the Commission's Rules of Practice and Procedure, 19 CFR 210.10(b)(1), the plain language description of the accused products or category of accused products, which defines the scope of the investigation, is balanced armature devices (also known as balanced armature receivers), and devices used on the ear or in the ear canal containing accused balanced armature devices (earphones, ear buds, headsets, headphones, in-ear monitors, hearing aids, hearing aid replacement receiver tubes, receiver in canal (RIC) replacement modules, and personal sound amplifiers), and components of devices used on the ear or in the ear canal containing accused balanced armature devices.

(3) For the purpose of the investigation so instituted, the following are hereby named as parties upon which this notice of investigation shall be served:

(a) The complainants are:

Knowles Corporation, 1151 Maplewood Drive, Itasca, IL 60143.

Knowles Electronics, LLC, 1151 Maplewood Drive, Itasca, IL 60143.

Knowles Electronics (Suzhou) Co., Ltd., No. 20, Chunxing Road, Xiangcheng District, Suzhou, 215131, Jiangsu Province, China.

(b) The respondents are the following entities alleged to be in violation of section 337, and are the parties upon which the complaint is to be served:

Liang Li (a/k/a Ryan Li), Room 602, Building 48, Fengqing Shuian Garden, Xizhou Road, Suzhou Industrial Park, Suzhou City, 215028, Jiangsu Province, China.

Shenzhen Bellsing Acoustic Technology Co., Ltd., 12/f, Sanhang Science and Technology Building, 45 Gaoxin South Ninth Road, Nanshan District, Shenzhen City, 518057, Guangdong Province, China.

Suzhou Bellsing Acoustic Technology Co., Ltd., Ruiqi Building, No. 668, Fenting Avenue, Suzhou Industrial Park, Suzhou City, 215028, Jiangsu Province, China.

Bellsing Corporation, 3333 Warrenville Rd, #155, Lisle, IL 60532.

Dongguan Bellsing Precision Device Co., Ltd., Fifth Industry Zone, Xieshan Village, Xiegang Town, Dongguan, 523598, Guangdong Province, China.

Dongguan Xinyao Electronics Industrial Co., Ltd., d/b/a Fidue Acoustics, Liuhua West Street, Xiakou, Dongcheng District, 523115, Dongguan, Guangdong, China.

Soundlink Co., Ltd., 2F-1# Building North, No. 89 Songshan Road, Shishan Industrial Complex Park, New District, 215129 Suzhou, China.

Magnatone Hearing Aid Corporation d/b/a Persona, Medical and InEarz Audio, 170 N Cypress Way, Casselberry, FL 32707.

Jerry Harvey Audio LLC, 111 W. Jefferson St., Ste. 300, Orlando, FL 32801.

Magic Dynamics, LLC d/b/a MagicEar, 22089 U.S. Hwy 19 N, Clearwater, FL 33765.

Campfire Audio, LLC, 2400 SE Ankeny St., Portland, OR 97214.

Clear Tune Monitors, Inc., 5528 Commerce Dr., Orlando, FL 32839.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the Administrative Law Judge and the Commission, without further notice to the respondent, to find the facts to be as alleged in the complaint and this notice and to enter an initial determination and a final determination containing such findings, and may result in the issuance of an exclusion order or a cease and desist order or both directed against the respondent.

By order of the Commission.
Issued: November 22, 2019.
Lisa Barton,
Secretary to the Commission.

[FR Doc. 2019-25852 Filed 11-27-19; 8:45 am]

BILLING CODE 7020-02-P